DEPARTMENT OF THE INTERIOR

Fish and Wildlife Service

50 CFR Part 17

[Docket No. FWS-R5-ES-2013-0097; 4500030114]

RIN 1018-AY17

Endangered and Threatened Wildlife and Plants; Proposed Threatened Status for the Rufa Red Knot (Calidris canutus rufa)

AGENCY: Fish and Wildlife Service, Interior.

ACTION: Proposed rule; extension of comment period; public hearing announcement.

SUMMARY: We, the U.S. Fish and Wildlife Service (Service), announce the extension of the public comment period on our September 30, 2013, proposal to list the rufa red knot (Calidris canutus rufa) as a threatened species under the Endangered Species Act of 1973, as amended (Act). In accordance with section 4(b)(5) of the Act, we are holding a second public hearing in North Carolina. A public informational session will be held immediately preceding the public hearing. Extending the comment period until June 15, 2014, will allow all interested parties an opportunity to attend the second North Carolina public hearing and provide testimony and additional comments on the proposed rufa red knot listing. Comments previously submitted need not be resubmitted, as they will be fully considered in preparation of the final rule.

DATES: The comment period for the proposed rule published September 30, 2013 (78 FR 60024), is extended. We will consider comments received or postmarked on or before June 15, 2014. Comments submitted electronically using the Federal eRulemaking Portal (see ADDRESSES, below) must be received by 11:59 p.m. Eastern Time on the closing date.

Public Informational Session and Public Hearing: We will hold a third public informational session and public hearing, and the second in North Carolina, on this proposed rule on June 5, 2014; see ADDRESSES for location:

• Manteo, NC: Public informational session from 5 p.m. to 6:30 p.m., followed by a public hearing from 7 p.m. to 8 p.m.

Registration to present oral comments on the proposed rule at the public hearing will begin at the start of the informational session.

ADDRESSES: Document availability: You may obtain copies of the September 30, 2013, proposed rule and its four supplemental documents on the Internet at http://www.regulations.gov at Docket Number FWS-R5-ES-2013-0097. Documents may also be obtained by mail from the New Jersey Ecological Services Field Office (see FOR FURTHER INFORMATION CONTACT).

Written comments: You may submit written comments by one of the following methods:

(1) Electronically: Go to the Federal eRulemaking Portal: http://www.regulations.gov. In the Search box, enter FWS-R5-ES-2013-0097, which is the docket number for the proposed rulemaking. You may submit a comment by clicking on “Comment Now!”

(2) By hard copy: Submit by U.S. mail or hand-delivery to: Public Comments Processing, Attn: FWS-R5-ES-2013-0097; Division of Policy and Directives Management; U.S. Fish and Wildlife Service; 4401 N. Fairfax Drive, MS 2042-PDM; Arlington, VA 22203.

We request that you send comments only by the methods described above. We will post all comments on http://www.regulations.gov. This generally means that we will post any personal information you provide us (see the Public Comments section below for more details).

Public Informational Session and Public Hearing: The informational session and public hearing will be located in:

• North Carolina—Alligator National Wildlife Refuge, Visitor Center, 100 Conservation Way, Manteo, NC 27954.

FOR FURTHER INFORMATION CONTACT: Eric Schrading, Field Office Supervisor, U.S. Fish and Wildlife Service, New Jersey Field Office, 927 North Main Street, Building D, Pleasantville, New Jersey 08232, by telephone 609-383-3938 or by facsimile 609-646-0352. Persons who use a telecommunications device for the deaf (TDD) may call the Federal Information Relay Service (FIRS) at 800-877-8339.

SUPPLEMENTARY INFORMATION:

Public Comments

We will accept written comments and information during this extended comment period on our proposal to list the rufa red knot as a threatened species that was published in the Federal Register on September 30, 2013 (78 FR 60024). We will consider information we receive from all interested parties. We intend that any final action resulting from this proposal will be based on the best scientific and commercial data available and be as accurate and as effective as possible.

If you submitted comments or information on the proposed rule (78 FR 60024) during the initial comment period from September 30, 2013, to November 29, 2013, or during the reopened public comment period that started on April 4, 2014, please do not resubmit them. We have incorporated them into the public record as part of the previous comment period, and we will fully consider them in the preparation of our final determination.

You may submit your comments and materials concerning the proposed listing rule by one of the methods listed in ADDRESSES. We request that you send comments only by the methods described in ADDRESSES.

If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Comments and materials we receive, as well as supporting documentation we used in preparing the proposed rule, are available for public inspection on http://www.regulations.gov at Docket No. FWS-R5-ES-2013-0097, or by appointment, during normal business hours, at the U.S. Fish and Wildlife Service, New Jersey Ecological Services Field Office (see FOR FURTHER INFORMATION CONTACT).

Background

It is our intent to discuss only those topics directly relevant to the rufa red knot threatened listing proposal in this document. For more information on previous Federal actions concerning the rufa red knot, or information regarding its biology, status, distribution, and habitat, refer to the proposed rule published in the Federal Register on September 30, 2013 (78 FR 60024) and its four supplemental documents, all of which are available online at http://www.regulations.gov at Docket No. FWS-R5-ES-2013-0097 or by mail from the New Jersey Ecological Services Field Office (see FOR FURTHER INFORMATION CONTACT).

In our September 30, 2013, proposed rule (78 FR 60024), we proposed to list the rufa red knot as threatened. We have determined that the rufa red knot is threatened due to loss of both breeding and nonbreeding habitat; potential for disruption of natural predator cycles on the breeding grounds; reduced prey availability throughout the nonbreeding range; and increasing frequency and severity of asynchronies (“mismatches”) in the timing of the birds' annual migratory cycle relative to favorable food and weather conditions.

On April 4, 2014, we reopened the comment period on the proposed listing rule for 45 days, to end on May 19, 2014, to accommodate two public hearings, one in Morehead City, North Carolina, and one in Corpus Christi, Texas (79 FR 18869). Both of those public hearings will be held on May 6, 2014. We subsequently received a request, dated April 15, 2014, to hold a second public hearing in North Carolina, specifically in Dare County. We concur with the request and will hold a second public hearing as described above. Therefore, we are extending the reopened comment period to June 15, 2014, to accommodate the second North Carolina public hearing.

Authors

The primary authors of this notice are the staff members in the Endangered Species Program, Northeast Regional Office, U.S. Fish and Wildlife Service.

Authority

The authority for this action is the Endangered Species Act of 1973, as amended (16 U.S.C. 1531 et seq.).

Dated: May 2, 2014.
Rowan W. Gould,
Director, U.S. Fish and Wildlife Service.

[FR Doc. 2014-10873 Filed 5-13-14; 8:45 am]

BILLING CODE 4310-55-P